DEPARTMENT OF ENERGY

Federal Energy Regulatory Commission

[Docket No. RP00-336-001]

El Paso Natural Gas Company; Notice of Compliance Filing

August 23, 2000.

Take notice that on August 15, 2000, pursuant to subpart C of part 154 of the Federal Energy Regulatory Commission's (Commission) Regulations and in compliance with the Commission's orders issued February 9, 2000 at Docket No. RM98-10-000, et al., May 19, 2000 at Docket No. RM98-10-001, et al., and June 7, 2000 at Docket No. RP00-293-000, El Paso Natural Gas Company (El Paso) tendered for filing and acceptance the following pro forma tariff sheets to its FERC Gas Tariff, Second Revised Volume No. 1-A.

First Revised Sheet No. 290A

Original Sheet No. 290B

Original Sheet No. 290C

El Paso states that the pro forma tariff sheets are being filed to submit a segmentation plan in compliance with the Commission's Order Nos. 637 and 637-A and the Order Granting Extension of Time in Part regarding capacity segmentation.

Any person desiring to protest this filing should file a protest with the Federal Energy Regulatory Commission, 888 First Street, NE., Washington, DC 20426, in accordance with Section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-21966 Filed 8-28-00; 8:45 am]

BILLING CODE 6717-01-M